DEPARTMENT OF COMMERCE

National Oceanic and Atmospheric Administration

[RTID 0648-XF513]

Marine Mammals; File No. 29154

AGENCY: National Marine Fisheries Service (NMFS), National Oceanic and Atmospheric Administration (NOAA), Commerce.

ACTION: Notice; receipt of application.

SUMMARY: Notice is hereby given that Briana Witteveen, Ph.D., University of Alaska Fairbanks, 2601 Darby Circle Anchorage, Alaska 99508, has applied in due form for a permit to conduct scientific research on marine mammals.

DATES: Written comments must be received on or before March 11, 2026.

ADDRESSES: The application and related documents are available for review by selecting “Records Open for Public Comment” from the “Features” box on the Applications and Permits for Protected Species home page, https://apps.nmfs.noaa.gov, and then selecting File No. 29154 from the list of available applications. These documents are also available upon written request via email to NMFS.Pr1Comments@noaa.gov.

Written comments on this application should be submitted via email to NMFS.Pr1Comments@noaa.gov. Please include File No. 29154 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Amy Hapeman, (301) 427-8401.

SUPPLEMENTARY INFORMATION: The subject permit is requested under the authority of the Marine Mammal Protection Act of 1972, as amended (16 U.S.C. 1361 et seq.), the regulations governing the taking and importing of marine mammals (50 CFR part 216), the Endangered Species Act of 1973, as amended (16 U.S.C. 1531 et seq.), the regulations governing the taking, importing, and exporting of endangered and threatened species (50 CFR parts 222-226), and the Fur Seal Act of 1966, as amended (16 U.S.C. 1151 et seq.).

The applicant requests a 10-year permit to conduct research in Alaska on 15 species of marine mammals including the following endangered species: blue whale (Balaenoptera musculus); fin whale (B. physalus); gray whale (Eschrichtius robustus); humpback whale (Megaptera novaeangliae); North Pacific right whale (Eubalaena japonica); sei whale (B. borealis); sperm whale (Physeter microcephalus); and Steller sea lion (Eumetopias jubatus). The objectives are to advance knowledge and improve understanding of the foraging behavior, prey use, and habitat of marine mammals. Target cetaceans may be taken during vessel surveys for counts, photography and video recording, photo-identification, behavioral observations, active acoustic sonar for prey mapping, and biological sampling (feces, sloughed skin, predation remains, and skin and blubber biopsies). Non-target cetaceans and pinnipeds may be unintentionally harassed and opportunistically studied during research. See the application for complete numbers of animals requested by species, life stage, and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 4, 2026.
Shannon Bettridge,
Chief, Marine Mammal and Sea Turtle Conservation Division, Office of Protected Resources, National Marine Fisheries Service.

[FR Doc. 2026-02485 Filed 2-6-26; 8:45 am]

BILLING CODE 3510-22-P